DEPARTMENT OF COMMERCE

National Oceanic and Atmospheric Administration

RIN 0648-XA342

Marine Mammals; File No. 15682

AGENCY: National Marine Fisheries Service (NMFS), National Oceanic and Atmospheric Administration (NOAA), Commerce.

ACTION: Notice; receipt of application.

SUMMARY: Notice is hereby given that Mithriel MacKay, Texas A&M University at Galveston, Galveston, TX 75003, has applied in due form for a permit to conduct research on humpback whales (Megaptera novaeangliae) [Principal Investigator: Bernd Würsig].

DATES: Written, telefaxed, or e-mail comments must be received on or before May 4, 2011.

ADDRESSES: The application and related documents are available for review by selecting “Records Open for Public Comment” from the Features box on the Applications and Permits for Protected Species (APPS) home page, https://apps.nmfs.noaa.gov, and then selecting File No. 15682 from the list of available applications.

These documents are also available upon written request or by appointment in the following offices:

Permits, Conservation and Education Division, Office of Protected Resources, NMFS, 1315 East-West Highway, Room 13705, Silver Spring, MD 20910; phone (301) 713-2289; fax (301) 713-0376; and

Southeast Region, NMFS, 263 13th Avenue South, Saint Petersburg, Florida 33701; phone (727) 824-5312; fax (727) 824-5309.

Written comments on this application should be submitted to the Chief, Permits, Conservation and Education Division, at the address listed above. Comments may also be submitted by facsimile to (301) 713-0376, or by e-mail to NMFS.Pr1Comments@noaa.gov. Please include the File No. in the subject line of the e-mail comment.

Those individuals requesting a public hearing should submit a written request to the Chief, Permits, Conservation and Education Division at the address listed above. The request should set forth the specific reasons why a hearing on this application would be appropriate.

FOR FURTHER INFORMATION CONTACT: Kristy Beard or Joselyd Garcia-Reyes, (301) 713-2289.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

The applicant requests a five-year permit to conduct research on humpback whales off Puerto Rico. The purpose of the research is to investigate the importance of smaller winter habitats used by humpback whales during the breeding/calving season. Each year, up to 700 humpback whales would be harassed during vessel-based photo-identification, behavioral observation, and passive acoustic recording and by divers during underwater photography. Whales would be harassed year-round, with efforts focused from October through July.

A draft environmental assessment (EA) has been prepared in compliance with the National Environmental Policy Act of 1969 (42 U.S.C. 4321 et seq.), to examine whether significant environmental impacts could result from issuance of the proposed scientific research permit. The draft EA is available for review and comment simultaneous with the scientific research permit application.

Concurrent with the publication of this notice in the Federal Register, NMFS is forwarding copies of the application to the Marine Mammal Commission and its Committee of Scientific Advisors.

Dated: March 29, 2011.
P. Michael Payne,
Chief, Permits, Conservation and Education Division, Office of Protected Resources, National Marine Fisheries Service.

[FR Doc. 2011-7958 Filed 4-1-11; 8:45 am]

BILLING CODE 3510-22-P